DEPARTMENT OF DEFENSE

Department of the Army

Privacy Act of 1974; System of Records

AGENCY: Department of the Army, DoD.

ACTION: Notice to amend systems of records.

SUMMARY: The Department of the Army is amending one system of records notice in its existing inventory of records systems subject to the Privacy Act of 1974, (5 U.S.C. 552a), as amended.

DATES: This proposed action will be effective without further notice on August 22, 2003 unless comments are received which result in a contrary determination.

ADDRESSES: Department of the Army, Freedom of Information/Privacy Act Office, U.S. Army Records Management and Declassification Agency, ATTN: TAPC-PDD-FP, 7798 Cissna Road, Suite 205, Springfield, VA 22153-3166.

FOR FURTHER INFORMATION CONTACT: Ms. Janice Thornton at (703) 806-7137/DSN 656-7137.

SUPPLEMENTARY INFORMATION: The Department of the Army systems of records notices subject to the Privacy Act of 1974, (5 U.S.C. 552a), as amended, have been published in the Federal Register and are available from the address above.

The specific changes to the records system being amended are set forth below followed by the notice, as amended, published in its entirety. The proposed amendments are not within the purview of subsection (r) of the Privacy Act of 1974, (5 U.S.C. 552a), as amended, which requires the submission of a new or altered system report.

Dated: July 16, 2003.
Patricia L. Toppings,
Alternate OSD Federal Register Liaison Officer, Department of Defense.

AAFES 0410.01

System name:

Employee Travel Files (August 9, 1996, 61 FR 41580).

Changes

* * * * *

Storage:

Delete entry and replace with ‘Paper records in locked filing cabinets and on electronic storage media.'

* * * * *

Retention and disposal:

Delete entry and replace with ‘Paper records are destroyed after imaging and imaged documents are maintained for 7 years.'

* * * * *

AAFES 0410.01

System name:

Employee Travel Files.

System location:

Headquarters, Army and Air Force Exchange Service, 3911 S. Walton Walker Boulevard, Dallas, TX 75236-1598; Commander, AAFES Europe, Unit 24580, APO AE 09245-4580; Commander, AAFES Pacific Rim Region, Unit 35163, APO AP 96378-5163; and Base on post exchange within the AAFES system. Official mailing addresses are published as an appendix to the Army’s compilation of systems of records notices.

Categories of individuals covered by the system:

Employees of the Army and Air Force Exchange Service (AAFES) authorized to perform official travel.

Categories of records in the system:

Documents pertaining to travel of persons on official Government business, and/or their dependents, including but not limited to travel assignment orders, authorized leave en route, availability of quarters and/or shipment of household goods and personal effects, application for passport/visas; security clearance; travel expense vouchers; and similar related documents.

Authority for maintenance of the system:

10 U.S.C. 3013, Secretary of the Army and 8013; Army Regulation 215-1, The Administration of Morale, Welfare, and Recreation Activities and Non-appropriated Fund Instrumentalities; Army Regulation 60-20, Army and Air Force Exchange Service Operating Policies; and E.O. 9397 (SSN).

Purpose(s):

To process official travel requests for military and civilian employees of the Army and Air Force Exchange Service; to determine eligibility of individual's dependents to travel; to obtain necessary clearance where foreign travel is involved, including assisting individual in applying for passports and visas and counseling where proposed travel involves visiting/transiting communist countries.

Routine uses of records maintained in the system, including categories of users and the purposes of such uses:

In addition to those disclosures generally permitted under 5 U.S.C. 552a(b) of the Privacy Act, these records or information contained therein may specifically be disclosed outside the DoD as a routine use pursuant to 5 U.S.C. 552a(b)(3) as follows:

Information may be disclosed to attaché or law enforcement authorities of foreign countries.

To the U.S. Department of Justice or Department of Defense legal/intelligence/investigative agencies for security, investigative, intelligence, and/or counterintelligence operations.

The DoD ‘Blanket Routine Uses’ set forth at the beginning of the Army's compilation of systems of records notices apply to this system.

Policies and practices for storing, retrieving, accessing, retaining, and disposing of records in the system:

Storage:

Paper records in locked filing cabinets and on electronic storage media.

Retrievability:

By employee's surname.

Safeguards:

Information is accessed only by designated individuals having official need therefore in the performance of their duties.

Retention and disposal:

Paper records are destroyed after imaging and imaged documents are maintained for 7 years.

System manager(s) and address:

Commander, Army and Air Force Exchange Service, 3911 S. Walton Walker Boulevard, Dallas, TX 75236-1598.

Notification procedure:

Individuals seeking to determine whether information about themselves is contained in this system should address written inquiries to the Commander, Army and Air Force Exchange Service, ATTN: Director, Administrative Services Division, 3911 S. Walton Walker Boulevard, Dallas, TX 75236-1598.

Individual should provide full name, Social Security Number, current address and telephone number, details of travel authorization/clearance documents sought, and signature.

Record access procedures:

Individuals seeking access to information about themselves contained in this system should address written inquiries to the Commander, Army and Air Force Exchange Service, ATTN: Director, Administrative Services Division, 3911 S. Walton Walker Boulevard, Dallas, TX 75236-1598.

Individual should provide full name, Social Security Number, current address and telephone number, details of travel authorization/clearance documents sought, and signature.

Contesting record procedures:

The Army's rules for accessing records and for contesting contents and appealing initial agency determinations are contained in Army Regulation 340-21; 32 CFR part 505; or may be obtained from the system manager.

Record source categories:

From the individual, official travel orders, travel expense vouchers, receipts and similar relevant documents.

Exemptions claimed for the system:

None.

[FR Doc. 03-18647 Filed 7-22-03; 8:45 am]

BILLING CODE 5001-08-U